INTERNATIONAL TRADE COMMISSION

[Investigation No. 731-TA-1114 (Review)]

Steel Nails From China; Determination

On the basis of the record ¹ developed in the subject five-year review, the United States International Trade Commission (Commission) determines, pursuant to section 751(c) of the Tariff Act of 1930 (19 U.S.C. 1675(c)), that revocation of the antidumping duty order on steel nails from China would be likely to lead to continuation or recurrence of material injury to an industry in the United States within a reasonably foreseeable time.

¹ The record is defined in sec. 207.2(f) of the Commission's Rules of Practice and Procedure (19 CFR 207.2(f)).

Background

The Commission instituted this review on July 1, 2013 (78 FR 40172) and determined on October 21, 2013 that it would conduct an expedited review (78 FR 68472, November 14, 2013).

The Commission completed and filed its determination in this review on December 19, 2013. The views of the Commission are contained in USITC Publication 4442 (December 2013), entitled Steel Nails from China: Investigation No. 731-TA-1114 (Review).

By order of the Commission.
Issued: December 19, 2013.
Lisa R. Barton,
Acting Secretary to the Commission.

[FR Doc. 2013-30754 Filed 12-24-13; 8:45 am]

BILLING CODE 7020-02-P